DEPARTMENT OF TRANSPORTATION

Federal Aviation Administration

Public Notice of Intent To Rule on Request To Release Surplus Airport Property at Shawnee Regional Airport, Shawnee, OK

AGENCY: Federal Aviation Administration (FAA) DOT.

ACTION: Notice of request to release airport property.

SUMMARY: The FAA is requesting public comment on the release of land at Shawnee Regional Airport under the provisions of Title 49, USC Section 47153(c).

DATES: Comments must be received on or before April 2, 2008.

ADDRESSES: Comments on this application may be mailed or delivered to the FAA at the following address: Mr. Edward N. Agnew, Manager, Federal Aviation Administration, Southwest Region, Airports Division, Arkansas/Oklahoma Airports Development Office, ASW 630, Fort Worth, Texas 76193-0630. In addition, one copy of any comments submitted to the FAA must be mailed or delivered to Mr. James C. Collard, Shawnee City Manager, at the following address: City of Shawnee, P.O. Box 1448, Shawnee, OK 74802-1448.

FOR FURTHER INFORMATION CONTACT: Mr. Donald C. Harris, Senior Program Manager, Federal Aviation Administration, Arkansas/Oklahoma Airports Development Office, ASW-631, 2601 Meacham Boulevard, Fort Worth, Texas 76193-0630. The request to release property may be reviewed in person at this same location.

SUPPLEMENTARY INFORMATION: On February 13, 2008, the FAA determined that the request to release property at Shawnee Regional Airport submitted by the City of Shawnee met the procedural requirements of the Federal Aviation Regulations, Part 155. The FAA may approve the request, in whole or in part, no later than March 31, 2008.

The following is a brief overview of the request: The City of Shawnee requests the release of 10.681 acres of airport property. The proceeds from the sale of property will provide $218,730 revenue for the construction of a new airport terminal facility.

Any person may inspect the request in person at the FAA office listed above under FOR FURTHER INFORMATION CONTACT.

In addition, any person may, upon request, inspect the application, notice and other documents germane to the application in person at the Shawnee Regional Airport.

Issued in Fort Worth, Texas on February 13, 2008.
Lacey D. Spriggs,
Acting Manager, Airports Division.

[FR Doc. 08-919 Filed 2-29-08; 8:45 am]

BILLING CODE 4910-13-M